DEPARTMENT OF ENERGY

Agency Information Collection Extension

AGENCY: Office of Fossil Energy, Department of Energy (DOE).

ACTION: Notice and request for comments.

SUMMARY: DOE's Office of Fossil Energy (FE) invites public comments on the proposed collection of information pursuant to natural gas import and export applications, as required under the Paperwork Reduction Act of 1995. DOE requests a three-year extension, with changes, to the data collection that includes Form FE-746R, Import and Export of Natural Gas under OMB Control Number 1901-0294. Form FE-746R collects information from authorized importers and exporters of natural gas. The information FE proposes to collect from import and export authorization holders, including on FE-746R, enables DOE's Office of Fossil Energy (FE) to monitor such trade under the United States Mexico Canada Agreement (USMCA), as well as other trade activity falling outside the parameters of USMCA and supports various market and regulatory analyses done by FE.

DATES: DOE must receive all comments on this proposed information collection no later than May 5, 2020. If you anticipate difficulty in submitting your comments by the deadline, contact the person listed in ADDRESSES as soon as possible.

ADDRESSES: Send your comments to Marc Talbert, FE-34, U.S. Department of Energy, Office of Natural Gas Regulatory Activities, Office of Fossil Energy, P.O. Box 44375, Washington, DC 20026-4375. Submission by email to marc.talbert@hq.doe.gov is recommended.

FOR FURTHER INFORMATION CONTACT: Marc Talbert, (202) 586-7991; email marc.talbert@hq.doe.gov. Access to the proposed information submissions is available at https://www.energy.gov/fe/services/natural-gas-regulation.

SUPPLEMENTARY INFORMATION: This information collection request contains:

(1) OMB No.: 1901-0294;

(2) Information Collection Request Title: Natural Gas Import and Export Data Submissions;

(3) Type of Request: Renewal with changes;

(4) Purpose: DOE's Office of Fossil Energy (FE) has the delegated authority to regulate natural gas imports and exports under section 3 of the Natural Gas Act of 1938, 15 U.S.C. 717b. To carry out its delegated responsibility, FE requires individuals seeking to import or export natural gas to file an application providing basic information on the scope and nature of the import/export activity. Once an importer or exporter receives authorization from FE, they are required to submit monthly reports of their import and export transactions on Form FE-746R, as well as other information applicable to a smaller subset of authorization holders that obtain long-term import and export authorizations, or short-term authorizations with countries the United States does not have a free trade agreement. Long-term authorization holders must also supply additional information to assess the state of the U.S. import and export markets as well as the adequacy of energy resources to meet near and long term domestic demands. The information collected ensures compliance with the terms and conditions of the authorization. In addition, the data is used to monitor North American gas trade activity, which enables the Federal government to perform market and regulatory analyses, improve the capability of industry and the government to respond to any future energy-related supply problems, and keep the general public informed on international natural gas trade.

(4a) Proposed Changes to Information Collection: FE seeks to include supplementary data reporting items under OMB Control Number 1901-0294. FE proposes to collect this additional information from long-term import and export authorization holders and short-term authorization holders that have authority to export natural gas to countries that the United States does not have a free trade agreement. The additional information FE seeks to collect from this subset of natural gas import and export authorization holders includes: Long-term contracts associated with the supply and sales of natural gas, compressed natural gas, liquefied natural gas, and associated products; changes in control of authorization holders registrations of agents who import and export natural gas; and for long-term LNG export authorization holders, semi-annual reports detailing information on the status of the proposed or operating LNG export facilities, the date the proposed LNG facilities are expected to commence first exports of LNG, and the status of any related long-term supply and sale/purchase agreements.

(5) Annual Estimated Number of Respondents: 396 respondents;

(6) Annual Estimated Number of Total Responses: 4,707;

(7) Annual Estimated Number of Burden Hours: 13,936 hours;

(8) Annual Estimated Reporting and Recordkeeping Cost Burden: $1,116,831 (13,936 annual burden hours multiplied by $80.14 per hour); FE estimates that respondents will have no additional costs associated with the data proposed for collection other than burden hours.

Comments are invited on whether or not: (a) The proposed collection of information is necessary for the proper performance of agency functions, including whether the information shall have practical utility; (b) FE's estimate of the burden of the proposed collection of information, including the validity of the methodology and assumptions used, is accurate; (c) FE can improve quality, utility, and clarity of the information it will collect; ¹ and how (d) FE can minimize the burden of the collection of information on respondents, such as automated collection techniques or other forms of information technology.

¹ See 83 FR 65111 (Dec. 18, 2018) (proposing clarifications to provide specificity, and thereby to reduce potential confusion and regulatory burdens, concerning DOE/FE's practice under its regulations at 10 CFR part 590).

Statutory Authority: 15 U.S.C. 772(b) and Section 3 of the Natural Gas Act of 1938, codified at 15 U.S.C. 717b.

Signed in Washington, DC, on February 28, 2020.
Shawn Bennett,
Deputy Assistant Secretary, Office of Oil and Natural Gas, Office of Fossil Energy.

[FR Doc. 2020-04566 Filed 3-5-20; 8:45 am]

BILLING CODE 6450-01-P